SECURITIES AND EXCHANGE COMMISSION

[Release No. 34-90526; File No. SR-NYSE-2020-77]

Self-Regulatory Organizations; New York Stock Exchange LLC; Notice of Deemed Approval of a Proposed Rule Change To Adopt Rule 8.601 (Active Proxy Portfolio Shares) and Rule 8.900 (Managed Portfolio Shares), Amend the Preamble to Rule 8P, and Amend Section 302.00 of the Listed Company Manual

November 27, 2020.

On September 22, 2020, New York Stock Exchange LLC filed with the Securities and Exchange Commission (“Commission”), pursuant to Section 19(b)(1) of the Securities Exchange Act of 1934 (“Act”) ¹ and Rule 19b-4 thereunder,² a proposed rule change to adopt Rule 8.601 (Active Proxy Portfolio Shares) and Rule 8.900 (Managed Portfolio Shares), amend the preamble to Rule 8P, and amend Section 302.00 of the Listed Company Manual to accommodate the listing of Active Proxy Portfolio Shares and Managed Portfolio Shares.

¹ 15 U.S.C. 78s(b)(1).

² 17 CFR 240.19b-4.

The proposed rule change was published for comment in the Federal Register on October 9, 2020.³ The Commission received no comment letters on the proposed rule change.

³ See Securities Exchange Act Release No. 90091 (Oct. 5, 2020), 85 FR 64194.

As of November 23, 2020, pursuant to Section 19(b)(2)(D) of the Act,⁴ the proposed rule change (SR-NYSE-2020-77) was deemed to have been approved by the Commission.

⁴ 15 U.S.C. 78s(b)(2)(D).

For the Commission, by the Division of Trading and Markets, pursuant to delegated authority.⁵
⁵ 17 CFR 200.30-3(a)(12).
J. Matthew DeLesDernier,
Assistant Secretary.

[FR Doc. 2020-26596 Filed 12-2-20; 8:45 am]

BILLING CODE 8011-01-P